DEPARTMENT OF TRANSPORTATION

Coast Guard

33 CFR Part 164

[USCG-2000-8300]

RIN 2115-AG03

Exemption of Public Vessels Equipped With Electronic Charting and Navigation Systems From Paper Chart Requirements

AGENCY: United States Coast Guard, DOT.

ACTION: Direct final rule; confirmation of effective date.

SUMMARY: On May 2, 2001, we published a direct final rule. The rule notified the public of our excluding public vessels owned, leased, or operated by the U.S. Government from certain requirements for navigational charts and publications by allowing the use of electronic systems for charting and navigation, and in the process providing a platform for the Coast Guard to evaluate alternatives leading to integrated technology for such systems on commercial vessels. Although we received two comments on the rule, neither was adverse; therefore, this rule will go into effect as scheduled.

DATES: The effective date of this direct final rule is July 31, 2001.

FOR FURTHER INFORMATION CONTACT: For questions regarding this rule, contact Ed LaRue, Office of Vessel Traffic Management, Coast Guard, telephone 202-267-0416. For questions on viewing, or submitting material to, the docket, contact Dorothy Beard, Chief, Dockets, Department of Transportation, telephone 202-366-9329.

SUPPLEMENTARY INFORMATION: The direct final rule (66 FR 21862) amended 33 CFR Part 164 to exclude public vessels owned, leased, or operated by the U. S. Government from requirements of carrying printed navigational charts and publications. The Coast Guard also published an Advance Notice of Proposed Rulemaking [66 FR 21899] seeking comments on the practicality of allowing all commercial vessels to use electronic systems for charting and navigation.

The Coast Guard received two comments on the rule. Both suggested that the rule specifically mention both operation under the Raster Chart Display System (RCDS) and the use of official Raster Navigation Charts (RNCs).

Let us note by way of clarification that the standards of the International Maritime Organization (IMO) for ECDIS permit the use of RNCs produced under the authority of a governmental hydrographic office. We agree that RNCs and RCDS currently meet those standards as “mode[s] of operation” (MSC 86(70)), and the rule allows the use of any electronic system for charting and navigation approved by the governmental agency exercising operational control over the vessel. Therefore, the rule needs no change to accommodate these comments. We hope this explanation avoids confusing those mariners who are already safely using RNCs and RCDS.

Dated: August 6, 2001.
J.P. High,
Acting Assistant Commandant for Marine Safety & Environmental Protection.

[FR Doc. 01-20522 Filed 8-14-01; 8:45 am]

BILLING CODE 4910-15-P